NUCLEAR REGULATORY COMMISSION

Sunshine Act Meetings

AGENCY HOLDING THE MEETINGS: Nuclear Regulatory Commission [NRC-2012-0002].

DATE: Weeks of December 24, 31, 2012, January 7, 14, 21, 28, 2013.

PLACE: Commissioners' Conference Room, 11555 Rockville Pike, Rockville, Maryland.

STATUS: Public and Closed.

Week of December 24, 2012

There are no meetings scheduled for the week of December 24, 2012.

Week of December 31, 2012—Tentative

There are no meetings scheduled for the week of December 31, 2012.

Week of January 7, 2013—Tentative

Tuesday, January 8, 2013

9:00 a.m. Briefing on Fort Calhoun (Public Meeting)

(Contact: Michael Hay, 817-200-1527)

This meeting will be webcast live at the Web address— www.nrc.gov.

Wednesday, January 9, 2013

9:00 a.m. Briefing on Venting Systems for Mark I and Mark II Containments (Public Meeting)

(Contact: William Reckley, 301-415-7490)

This meeting will be webcast live at the Web address— www.nrc.gov.

Week of January 14, 2013—Tentative

There are no meetings scheduled for the week of January 14, 2013.

Week of January 21, 2013—Tentative

There are no meetings scheduled for the week of January 21, 2013.

Week of January 28, 2013—Tentative

Thursday, January 31, 2013

9:00 a.m. Briefing on Public Participation in NRC Regulatory Decision-Making (Public Meeting)

(Contact: Lance Rakovan, 301-415-2589)

This meeting will be webcast live at the Web address— www.nrc.gov.

Friday, February 1, 2013

9:30 a.m. Briefing on Equal Employment Opportunity (EEO) and Small Business Programs (Public Meeting)

(Contact: Sandra Talley, 301-415-8059)

This meeting will be webcast live at the Web address— www.nrc.gov.

* * * * *

*The schedule for Commission meetings is subject to change on short notice. To verify the status of meetings, call (recording)—301-415-1292. Contact person for more information: Rochelle Bavol, 301-415-1651.

* * * * *

The NRC Commission Meeting Schedule can be found on the Internet at: http://www.nrc.gov/public-involve/public-meetings/schedule.html.

* * * * *

The NRC provides reasonable accommodation to individuals with disabilities where appropriate. If you need a reasonable accommodation to participate in these public meetings, or need this meeting notice or the transcript or other information from the public meetings in another format (e.g. braille, large print), please notify Kimberly Meyer, NRC Disability Program Manager, at 301-287-0727, or by email at kimberly.meyer-chambers@nrc.gov. Determinations on requests for reasonable accommodation will be made on a case-by-case basis.

* * * * *

This notice is distributed electronically to subscribers. If you no longer wish to receive it, or would like to be added to the distribution, please contact the Office of the Secretary, Washington, DC 20555 (301-415-1969), or send an email to darlene.wright@nrc.gov.

Dated: December 20, 2012.
Rochelle C. Bavol,
Policy Coordinator, Office of the Secretary.

[FR Doc. 2012-31190 Filed 12-26-12; 11:15 am]

BILLING CODE 7590-01-P